DEPARTMENT OF THE TREASURY

Submission for OMB Review; Comment Request

October 16, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 27, 2000 to be assured of consideration.

Internal Revenue Service (IRS)

OMB Number: 1545-0043.

Form Number: IRS Form 972.

Type of Review: Extension.

Title: Consent of Shareholder To Include Specific Amount in Gross Income.

Description: Form 972 is filed by shareholders of corporations to elect to include an amount in gross income as a dividend. The IRS uses Form 972 as a check to see if an amended return is filed to include the amount in income and to determine if the corporation claimed the correct amount.

Respondents: Individuals or households, Business or other for-profit.

Estimated Number of Respondents/Recordkeepers: 400.

Estimated Burden Hours Per Respondent/Recordkeeper:

Recordkeeping—13 min.

Learning about the law or the form—4 min.

Preparing the form—6 min. Copying, assembling and sending the form to the IRS—20 min.

Frequency of Response: On occasion.

Estimated Total Reporting/Recordkeeping Burden: 368 hours.

OMB Number: 1545-1034.

Form Number: IRS Form 8582-CR.

Type of Review: Extension.

Title: Passive Activity Credit Limitations.

Description: Under section 469, credits from passive activities, to the extent they do not exceed the tax attributable to net passive income, are not allowed. Form 8582-CR is used to figure the passive activity credit allowed and the amount of credit to be reported on the tax return.

Respondents: Individuals or households, Business or other for-profit.

Estimated Number of Respondents/Recordkeepers: 900,000.

Estimated Burden Hours Per Respondent/Recordkeeper:

Recordkeeping—2 hr., 5 min.

Learning about the law or the form—6 hr., 5 min.

Preparing the form—4 hr., 21 min.

Copying, assembling and sending the form to the IRS—2 hr., 11 min.

Frequency of Response: Annually.

Estimated Total Reporting/Recordkeeping Burden: 7,017,300 hours.

OMB Number: 1545-1288.

Form Number: IRS Form 8828.

Type of Review: Extension.

Title: Recapture of Federal Mortgage Subsidy.

Description: Form 8828 is needed to compute the section 143(m) tax on recapture of the Federal subsidy from use of qualified mortgage bonds and mortgage credit certificates in cases where the financing is provided after 1990 and the home subject to the financing is sold during the first 9 years after financing was provided. IRS uses the information to determine that the proper amount of Federal subsidy is recaptured.

Respondents: Individuals or households.

Estimated Number of Respondents/Recordkeepers: 1,000.

Estimated Burden Hours Per Respondent/Recordkeeper:

Recordkeeping—1 hr., 18 min.

Learning about the law or the form—22 min.

Preparing the form—46 min.

Copying, assembling, and sending the form to the IRS—20 min.

Frequency of Response: Other (for year of sale of home).

Estimated Total Reporting/Recordkeeping Burden: 2,678 hours.

Clearance Officer: Garrick Shear, Internal Revenue Service, Room 5244, 1111 Constitution Avenue, NW., Washington, DC 20224.

OMB Reviewer: Alexander T. Hunt (202) 395-7860, Office of Management and Budget, Room 10202, New Executive Office Building, Washington, DC 20503.

Lois K. Holland,
Departmental Reports Management Officer.

[FR Doc. 00-27473 Filed 10-25-00; 8:45 am]

BILLING CODE 4830-01-P